NATIONAL CREDIT UNION ADMINISTRATION

Submission for OMB Review; Comment Request

AGENCY: National Credit Union Administration (NCUA).

ACTION: Notice.

SUMMARY: The National Credit Union Administration (NCUA) will submit the following information collection request to the Office of Management and Budget (OMB) for review and clearance in accordance with the Paperwork Reduction Act of 1995, on or after the date of publication of this notice.

DATES: Comments should be received on or before September 15, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Dawn Wolfgang at (703) 548-2279, emailing PRAComments@ncua.gov, or viewing the entire information collection request at www.reginfo.gov.

SUPPLEMENTARY INFORMATION: OMB Number: 3133-0200.

Type of Review: Extension of a currently approved collection.

Title: Consumer Assistance Center.

Abstract: The Dodd-Frank Wall Street Reform and Consumer Protection Act (Dodd-Frank Act) (Pub. L. 111-203) authorizes the National Credit Union Administration (NCUA) to accept and resolve member complaints. NCUA has centralized the intake of consumer inquiries and complaints under the Consumer Assistance Center, via the MyCreditUnion.gov website. The Consumer Assistance Center assists consumers with information about federal financial consumer protection and share insurance matters and assists in resolving disputes with credit unions. Consumers can make inquiries or submit a complaint electronically through the MyCreditUnion.gov website. The on-line portal offers a template for consumers to use to aid in identifying their concerns.

Affected Public: Individuals and Households; Private Sector: Not-for-profit institutions.

Estimated Total Annual Burden Hours: 2,209.

By Melane Conyers-Ausbrooks, Secretary of the Board, the National Credit Union Administration, on August 9, 2021.

Dated: August 10, 2021.
Dawn D. Wolfgang,
NCUA PRA Clearance Officer.

[FR Doc. 2021-17413 Filed 8-13-21; 8:45 am]

BILLING CODE 7535-01-P